DEPARTMENT OF EDUCATION

Tests Determined To Be Suitable for Use in the National Reporting System for Adult Education

AGENCY: Office of Career, Technical, and Adult Education, Department of Education.

ACTION: Notice.

SUMMARY: The Secretary announces tests, test forms, and delivery formats that the Secretary determines to be suitable for use in the National Reporting System for Adult Education (NRS). This notice relates to the approved information collections under OMB control numbers 1830-0027 and 1830-0567.

FOR FURTHER INFORMATION CONTACT: John LeMaster, Department of Education, 400 Maryland Avenue SW, Room 11-152, Potomac Center Plaza, Washington, DC 20202-7240. Telephone: (202) 245-6218. Email: John.LeMaster@ed.gov.

If you use a telecommunications device for the deaf (TDD) or a text telephone (TTY), call the Federal Relay Service (FRS), toll-free, at 1-800-877-8339.

SUPPLEMENTARY INFORMATION: On January 14, 2008, and as amended on August 19, 2016, we published in the Federal Register final regulations for 34 CFR part 462, Measuring Educational Gain in the National Reporting System for Adult Education (NRS regulations) (73 FR 2305, Jan. 14, 2008, as amended at 81 FR 55552, Aug. 19, 2016). The NRS regulations established the process the Secretary uses to determine the suitability of tests for use in the NRS by States and local eligible providers. We annually publish in the Federal Register, and post on the internet at www.nrsweb.org, a list of the names of tests and the educational functioning levels the tests are suitable to measure in the NRS as required by § 462.12(c)(2).

On September 7, 2017, the Secretary published in the Federal Register (82 FR 42339) an annual notice of tests determined to be suitable for use in the NRS (September 2017 notice). In the September 2017 notice, the Secretary announced a new test and test forms that were determined to be suitable for use in the NRS, in accordance with § 462.13.

On February 5, 2018, the Secretary published in the Federal Register (83 FR 5087) an annual notice of tests determined to be suitable for use in the NRS (February 2018 notice). In the February 2018 notice, the Secretary announced a new test and test forms that were determined to be suitable for use in the NRS, in accordance with § 462.13.

On September 21, 2018, the Secretary published in the Federal Register (83 FR 47910) an annual notice of tests determined to be suitable for use in the NRS (September 2018 notice). In the September 2018 notice, the Secretary announced a list of English as a Second Language (ESL) tests and test forms determined to be suitable for use in the NRS, previously approved for an extended period through February 2, 2019, and approved these tests and test forms for an additional period through February 2, 2021. The Secretary also announced a list of tests with NRS approvals expiring on February 2, 2019, which States and local providers may continue to use during a sunset period ending on June 30, 2019.

On March 7, 2019, the Secretary published in the Federal Register (84 FR 8322) an annual notice of tests determined to be suitable for use in the NRS (March 2019 notice). In the March 2019 notice, the Secretary announced a new test and test forms that were determined to be suitable for use in the NRS, in accordance with § 462.13.

In this notice, the Secretary announces new tests that have been determined to be suitable for use in the NRS, in accordance with § 462.13. These tests measure the new NRS educational functioning levels for Literacy/English Language Arts and Mathematics at Adult Basic Education (ABE) levels 2 through 6, as described in Appendix A of Measures and Methods for the National Reporting System for Adult Education (OMB Control Number: 1830-0027).

Adult education programs must use only the forms and computer-based delivery formats for the tests approved in this notice or in the September 2017, February 2018, September 2018, or March 2019 notices. If a particular test form or computer delivery format is not explicitly specified for a test in this notice or in the September 2017, February 2018, September 2018, or March 2019 notices, it is not approved for use in the NRS.

Tests Determined To Be Suitable for Use in the NRS for a 7-Year Period From the Publication Date of This Notice

The Secretary has determined that the following tests are suitable for use at ABE levels 2 through 6 of the NRS for a period of 7 years from the publication date of this notice:

(1) Massachusetts Adult Proficiency Test—College and Career Readiness (MAPT-CCR) for Reading. This test is approved for use through a computer-adaptive delivery format. Publisher: Massachusetts Department of Elementary and Secondary Education and University of Massachusetts Amherst, College of Education, 156 Hills South, University of Massachusetts Amherst, Amherst, MA 01003. Telephone: (413) 545-0564. Internet: www.doe.mass.edu/acls/assessment/.

(2) Massachusetts Adult Proficiency Test—College and Career Readiness (MAPT-CCR) for Mathematics. This test is approved for use through a computer-adaptive delivery format. Publisher: Massachusetts Department of Elementary and Secondary Education and University of Massachusetts Amherst, College of Education, 156 Hills South, University of Massachusetts Amherst, Amherst, MA 01003. Telephone: (413) 545-0564. Internet: www.doe.mass.edu/acls/assessment/.

Revocation of Tests: Under certain circumstances, the Secretary may revoke the determination that a test is suitable (see § 462.12(e)). If the Secretary revokes the determination of suitability, the Secretary announces the revocation, as well as the date by which States and local eligible providers must stop using the revoked test, through a notice published in the Federal Register and posted on the internet at www.nrsweb.org.

Accessible Format: Individuals with disabilities can obtain this document in an accessible format (such as braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: 29 U.S.C. 3292.

Scott Stump,
Assistant Secretary for Career, Technical, and Adult Education.

[FR Doc. 2019-08938 Filed 5-1-19; 8:45 am]

BILLING CODE 4000-01-P.